DEPARTMENT OF ENERGY

Federal Energy Regulatory Commission

Combined Notice of Filings #1

Take notice that the Commission received the following electric rate filings:

Docket Numbers: ER13-150-002.

Applicants: Midwest Independent Transmission System Operator, Inc., Northern Indiana Public Service Company.

Description: Midwest Independent Transmission System Operator, Inc. submits tariff filing per 35.17(b): 12-10-12 NIPSCO Amendment to be effective 1/1/2013.

Filed Date: 12/11/12.

Accession Number: 20121211-5001.

Comments Due: 5 p.m. ET 12/17/12.

Docket Numbers: ER13-301-001.

Applicants: Southwest Power Pool, Inc.

Description: Southwest Power Pool, Inc. submits tariff filing per 35.17(b): Errata Filing in Docket No. ER13-301—MKEC Formula Rate Revisions to be effective 1/1/2013.

Filed Date: 12/10/12.

Accession Number: 20121210-5211.

Comments Due: 5 p.m. ET 12/31/12.

Docket Numbers: ER13-368-001.

Applicants: The Procter & Gamble Paper Products Company.

Description: The Procter & Gamble Paper Products Company submits tariff filing per 35.17(b): MBRA Tariff to be effective 1/14/2013.

Filed Date: 12/10/12.

Accession Number: 20121210-5171.

Comments Due: 5 p.m. ET 12/31/12.

Docket Numbers: ER13-538-000.

Applicants: Consumers Energy Company.

Description: Consumers Energy Company submits tariff filing per 35.13(a)(2)(iii): Consumers Energy Company—MBR to be effective 12/11/2012.

Filed Date: 12/10/12.

Accession Number: 20121210-5102.

Comments Due: 5 p.m. ET 12/31/12.

Docket Numbers: ER13-539-000.

Applicants: American Electric Power Service Corporation, PJM Interconnection, L.L.C.

Description: American Electric Power Service Corporation submits tariff filing per 35.13(a)(2)(iii: Appalachian Power Company submits FRR Capacity Formula Rate Filing to be effective 2/9/2013.

Filed Date: 12/10/12.

Accession Number: 20121210-5220.

Comments Due: 5 p.m. ET 12/31/12.

Docket Numbers: ER13-540-000.

Applicants: Idaho Power Company.

Description: Idaho Power Company submits tariff filing per 35.13(a)(2)(iii: RATFA, Revised and Restated Transmission Facilities Agreement with PacifiCorp to be effective 2/8/2013.

Filed Date: 12/11/12.

Accession Number: 20121211-5000.

Comments Due: 5 p.m. ET 1/2/13.

Docket Numbers: ER13-541-000.

Applicants: Arizona Public Service Company.

Description: Arizona Public Service Company submits tariff filing per 35.13(a)(2)(iii: Ajo Improvement Company Interconnection Agreement, Service Agreement No. 326 to be effective 12/28/2012.

Filed Date: 12/11/12.

Accession Number: 20121211-5058.

Comments Due: 5 p.m. ET 1/2/13.

Take notice that the Commission received the following qualifying facility filings:

Docket Numbers: QF13-142-000.

Applicants: Wasatch Integrated Waste Management District.

Description: Form 556—Notice of self-certification of qualifying cogeneration facility status of Wasatch Integrated Waste Management District.

Filed Date: 12/10/12.

Accession Number: 20121210-5159.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 11, 2012.
Nathaniel J. Davis, Sr.,
Deputy Secretary.

[FR Doc. 2012-30387 Filed 12-17-12; 8:45 am]

BILLING CODE 6717-01-P